DEPARTMENT OF DEFENSE

GENERAL SERVICES ADMINISTRATION

NATIONAL AERONAUTICS AND SPACE ADMINISTRATION

48 CFR Part 25

[FAC 2005-67; FAR Case 2013-008; Item VIII; Docket 2013-0008, Sequence 1]

RIN 9000-AM54

Federal Acquisition Regulation; Deletion of Report to Congress on Foreign-Manufactured Products

AGENCY: Department of Defense (DoD), General Services Administration (GSA), and National Aeronautics and Space Administration (NASA).

ACTION: Final rule.

SUMMARY: DoD, GSA, and NASA are issuing a final rule amending the Federal Acquisition Regulation (FAR) to eliminate an obsolete Congressional reporting requirement on acquisitions of end products manufactured outside the United States.

DATES: Effective Date: July 22, 2013.

FOR FURTHER INFORMATION CONTACT: Ms. Cecelia L. Davis, Procurement Analyst, at 202-219-0202, for clarification of content. For information pertaining to status or publication schedules, contact the Regulatory Secretariat at 202-501-4755. Please cite FAC 2005-67, FAR Case 2013-008.

SUPPLEMENTARY INFORMATION:

I. Background

This final rule amends FAR 25.001 and 25.004 to eliminate an obsolete Congressional reporting requirement imposed by the United States Troops Readiness, Veterans' Care, Katrina Recovery, and Iraq Accountability Appropriations Act, 2007 (41 U.S.C. 8302(b)(1)).

This Act required the heads of each Federal agency to submit a report to Congress on acquisitions of articles, materials, or supplies that are manufactured outside the United States for Fiscal Year 2007 through Fiscal Year 2011. The report to Congress is no longer required but the collection of the data in the Federal Procurement Data System is still required (see FAR 52.225-18, Place of Manufacture).

II. Discussion and Analysis

“Publication of proposed regulations”, 41 U.S.C. 1707, is the statute which applies to the publication of the Federal Acquisition Regulation. Paragraph (a)(1) of the statute requires that a procurement policy, regulation, procedure or form (including an amendment or modification thereof) must be published for public comment if it has either a significant effect beyond the internal operating procedures of the agency issuing the policy, regulation, procedure or form, or has a significant cost or administrative impact on contractors or offerors. This final rule is not required to be published for public comment, because this rule serves to eliminate a reporting requirement that only affected the internal operating procedures of the Government.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of Executive Order 12866, Regulatory Planning and Review, dated September 30, 1993. This rule is not a major rule under 5 U.S.C. 804.

IV. Regulatory Flexibility Act

The Regulatory Flexibility Act does not apply to this rule because this final rule does not constitute a significant FAR revision within the meaning of FAR 1.501-1 and 41 U.S.C. 1707 and does not require publication for public comment.

V. Paperwork Reduction Act

The final rule does not contain any information collection requirements that require the approval of the Office of Management and Budget under the Paperwork Reduction Act (44 U.S.C. chapter 35).

List of Subject in 48 CFR Part 25

Government procurement.

Dated: June 13, 2013.
William Clark,
Acting Director, Office of Governmentwide Acquisition Policy, Office of Acquisition Policy, Office of Governmentwide Policy.

Therefore, DoD, GSA, and NASA amend 48 CFR part 25 as set forth below:

PART 25—FOREIGN ACQUISITION

1. The authority citation for 48 CFR part 25 continues to read as follows:

Authority: 40 U.S.C. 121(c); 10 U.S.C. chapter 137; and 51 U.S.C. 20113.

25.001 [Amended]

2. Amend section 25.001 by—

a. Removing from the introductory text of paragraph (c) “report on end products manufactured outside the United States (see 25.004)” and adding “representation on end products manufactured outside the United States (see 52.225-18)” in its place; and

b. Removing from paragraph (c)(3) “For the reporting requirement at 25.004” and adding “For the representation at 52.225-18” in its place.

25.004 [Removed]

3. Remove section 25.004.

[FR Doc. 2013-14617 Filed 6-20-13; 8:45 am]

BILLING CODE 6820-EP-P